ENVIRONMENTAL PROTECTION AGENCY

[FRL-8909-9]

Office of Research and Development; Ambient Air Monitoring Reference and Equivalent Methods: Designation of Three New Reference Methods and Four New Equivalent Methods

AGENCY: Environmental Protection Agency.

ACTION: Notice of the designation of three new reference methods and four new equivalent methods for monitoring ambient air quality.

SUMMARY: Notice is hereby given that the Environmental Protection Agency (EPA) has designated, in accordance with 40 CFR Part 53, three new reference methods and four new equivalent methods. The reference methods include one for measuring carbon monoxide (CO) in ambient air (Ecotech Serinus 30 Carbon Monoxide Analyzer) and two for measuring PM10-2.5 in the ambient air (a Thermo Scientific Partisol® Model 2000 sampler pair and a Partisol®-Plus Model 2025 Sequential sampler pair). The four new equivalent methods are two for measuring PM2.5 and two for measuring PM10-2.5 in the ambient air (Thermo Scientific Partisol® Model 2000-D, and Dichotomous Partisol®-Plus Model 2025-D Sequential, air samplers).

FOR FURTHER INFORMATION CONTACT: Surender Kaushik, Human Exposure and Atmospheric Sciences Division (MD-D205-03), National Exposure Research Laboratory, U.S. EPA, Research Triangle Park, North Carolina 27711. Phone: (919) 541-5691, e-mail: Kaushik.Surender@epa.gov.

SUPPLEMENTARY INFORMATION: In accordance with regulations at 40 CFR Part 53, the EPA evaluates various methods for monitoring the concentrations of those ambient air pollutants for which EPA has established National Ambient Air Quality Standards (NAAQSs) as set forth in 40 CFR Part 50. Monitoring methods that are determined to meet specific requirements for adequacy are designated by the EPA as either reference methods or equivalent methods (as applicable), thereby permitting their use under 40 CFR Part 58 by States and other agencies for determining compliance with the NAAQSs.

The EPA hereby announces the designation of one new reference method for measuring concentrations of CO, two new reference methods for measuring PM10-2.5, two new equivalent methods for measuring PM2.5, and two new equivalent methods for measuring PM10-2.5 in the ambient air. These designations are made under the provisions of 40 CFR Part 53, as amended on October 17, 2006 (71 FR 61271).

The new reference method for CO is an automated method that utilizes the measurement principle based on non-dispersive infra-red adsorption photometry (combined with gas filter correlation) and the calibration procedure specified in Appendix C of 40 CFR Part 50. The newly designated reference method is identified as follows:

RFCA-0509-174, “Ecotech Serinus 30 Carbon Monoxide Analyzer”, operated in the range of 0-50 ppm, with a five-micron Teflon® filter element installed, and with the following selected: Background-Enabled, Control Loop-Enabled, Diagnostic Mode-Operate, Pres/Temp/Flow Compensation-Enabled, Span Compensation-Disabled, with concentration automatically corrected for temperature and pressure changes.

An application for a reference method determination for this candidate method was received by the EPA on October 17, 2008. This analyzer is commercially available from the applicant, Ecotech Pty. Ltd., 1492 Ferntree Gully Road, Knoxfield, Victoria, 3180, Australia.

The two new PM10-2.5 reference methods are manual methods that each utilize a pair of filter samplers that have been previously designated individually as reference methods, one for PM2.5 and the other for PM10, and have been shown to meet the requirements specified in Appendix O of 40 CFR Part 50. The samplers of the first method are currently designated as reference methods RFPS-0498-117 and RFPS-1298-126 for PM2.5 and PM10, respectively. The samplers of the second method are currently designated as reference methods RFPS-0498-118 and RFPS-1298-127 for PM2.5 and PM10, respectively. These newly designated reference methods for PM10-2.5 are identified as follows:

RFPS-0509-175, “Thermo Scientific Partisol® Model 2000 PM10-2.5 Sampler Pair” for the determination of coarse particulate matter as PM10-2.5, consisting of a pair of Thermo Scientific Partisol® Model 2000 samplers, with one configured as a PM2.5 sampler (RFPS-0498-117) and the other configured as a PM10c sampler with the PM2.5 separator replaced with a Thermo Scientific WINS Bypass Downtube (RFPS-1298-126), and operated in accordance with the associated Partisol® Model 2000 Instruction manual supplement.

RFPS-0509-176, “Thermo Scientific Partisol®-Plus Model 2025 Sequential PM10-2.5 air sampler pair” for the determination of coarse particulate matter as PM10-2.5, consisting of a pair of Thermo Scientific Partisol®-Plus Model 2025 Sequential samplers, with one configured as a PM2.5 sampler (RFPS-0498-118) and the other configured as a PM10c sampler with the PM2.5 separator replaced with a Thermo Scientific Partisol® 2025 Downtube (RFPS-1298-127), and operated in accordance with the associated Partisol®-Plus Model 2025 Sequential Instruction manual supplement.

Applications for PM10-2.5 reference method determinations for these candidate methods were received by the EPA on April 29, 2009. The samplers are commercially available from the applicant, Thermo Fisher Scientific, Air Quality Instruments, Environmental Instruments Division, 27 Forge Parkway, Franklin, MA 02038.

The four new PM equivalent methods are two dual-channel samplers that measure both PM2.5 and PM10-2.5, utilizing a manual, filter method (sampler) and a measurement principle based on PM separation in a virtual impactor, with separate fine and coarse filter sample collection and gravimetric analysis. The first sampler is a single-event sampler, and the second is a sequential-filter device. These newly designated equivalent methods, for PM2.5 and PM10-2.5, are identified as follows:

EQPS-0509-177 (PM2.5) and EQPS-0509-178 (PM10-2.5), “Thermo Scientific Partisol® 2000-D Dichotomous Air Sampler”, configured for dual-filter, single-event sampling of fine (PM2.5) and coarse (PM10-2.5) particles, using a virtual impactor to separate fine and coarse PM into two samples for collection on two separate filter membranes, operated for a 24-hour sample period, in accordance with the Model 2000-D Dichotomous Instruction Manual.

EQPS-0509-179 (PM2.5) and EQPS-0509-180 (PM10-2.5), “Thermo Scientific Dichotomous Partisol®-Plus Model 2025-D Sequential Air Sampler”, configured for dual-filter sampling of fine (PM2.5) and coarse (PM10-2.5) particle components, using a virtual impactor to separate the fine and coarse PM into two samples for collection on two separate filter membranes, and operated with the modified filter shuttle mechanism implemented May 31, 2008 and firmware version 1.500, or later, for 24-hour continuous sample periods, in accordance with the Model 2025-D Sequential Dichotomous Instruction Manual.

Applications for PM2.5 and PM10-2.5 equivalent method determinations for these candidate samplers were received by the EPA on April 10, October 3, and October 7, 2008. The samplers are commercially available from the applicant, Thermo Fisher Scientific, Air Quality Instruments, Environmental Instruments Division, 27 Forge Parkway, Franklin, MA 02038.

A test analyzer and test samplers representative of these methods have been tested in accordance with the applicable test procedures specified in 40 CFR Part 53 (as amended on October 17, 2006). After reviewing the results of those tests and other information submitted by the applicants in the respective applications, EPA has determined, in accordance with Part 53, that each of these methods should be designated as a reference or equivalent method, as appropriate. The information submitted by the applicants in the respective applications will be kept on file, either at EPA's National Exposure Research Laboratory, Research Triangle Park, North Carolina 27711 or in an approved archive storage facility, and will be available for inspection (with advance notice) to the extent consistent with 40 CFR Part 2 (EPA's regulations implementing the Freedom of Information Act).

As designated reference or equivalent methods, these methods are acceptable for use by States and other air monitoring agencies under the requirements of 40 CFR Part 58, Ambient Air Quality Surveillance. For such purposes, each method must be used in strict accordance with the operation or instruction manual associated with the method and subject to any specifications and limitations (e.g., configuration or operational settings) specified in the applicable designated method description (see the identifications of the methods above).

Use of each method should also be in general accordance with the guidance and recommendations of applicable sections of the “Quality Assurance Handbook for Air Pollution Measurement Systems, Volume I,” EPA/600/R-94/038a and “Quality Assurance Handbook for Air Pollution Measurement Systems, Volume II, Ambient Air Quality Monitoring Program” EPA-454/B-08-003, December, 2008 (available at http://www.epa.gov/ttn/amtic/qabook.html). Vendor modifications of a designated reference or equivalent method used for purposes of Part 58 are permitted only with prior approval of the EPA, as provided in Part 53. Provisions concerning modification of such methods by users are specified under Section 2.8 (Modifications of Methods by Users) of Appendix C to 40 CFR Part 58.

In general, a method designation applies to any sampler or analyzer which is identical to the sampler or analyzer described in the application for designation. In some cases, similar samplers or analyzers manufactured prior to the designation may be upgraded or converted (e.g., by minor modification or by substitution of the approved operation or instruction manual) so as to be identical to the designated method and thus achieve designated status. The manufacturer should be consulted to determine the feasibility of such upgrading or conversion.

Part 53 requires that sellers of designated reference or equivalent method analyzers or samplers comply with certain conditions. These conditions are specified in 40 CFR 53.9.

Aside from occasional breakdowns or malfunctions, consistent or repeated noncompliance with any of these conditions should be reported to: Director, Human Exposure and Atmospheric Sciences Division (MD-E205-01), National Exposure Research Laboratory, U.S. Environmental Protection Agency, Research Triangle Park, North Carolina 27711.

Designation of these new reference and equivalent methods is intended to assist the States in establishing and operating their air quality surveillance systems under 40 CFR Part 58. Questions concerning the commercial availability or technical aspects of any of the methods should be directed to the appropriate applicant.

Linda S. Sheldon,
Acting Director, National Exposure Research Laboratory.

[FR Doc. E9-12789 Filed 6-1-09; 8:45 am]

BILLING CODE 6560-50-P